DEPARTMENT OF LABOR

Comment Request for Information Collection for OMB Control No. 1205-0035, Job Corps Placement and Assistance Record, Extension With Revisions

AGENCY: Employment and Training Administration.

ACTION: Notice.

SUMMARY: The Department of Labor, as part of its continuing effort to reduce paperwork and respondent burden, conducts a preclearance consultation program to provide the general public and federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about Job Corps Placement and Assistance Record [OMB Control No. 1205-0035, expires 09/30/2010]: ETA 678 form, Job Corps Placement and Assistance Record. ETA form 678 currently captures information about a student's training and subsequent placement in a job, higher education or the military, as well as the name of the placement provider agency. It is used to evaluate overall program effectiveness. This form is critical to the program's evaluation process. It is the only form which documents a student's post-center status. This form is completed by either a Job Corps center records staff or a career transition specialist for each student.

Proposed change:

1. Change the form title from Job Corps Placement and Assistance Record to Job Corps Placement Record.

2. The form will now capture e-mail, fax number, and Web site addresses.

3. Change Student's Vocational Training to Student's Career Technical Training (the acronym CTT will appear on the actual form); change apprenticeship to Registered Apprenticeship; add GED; Change Center ID to Center Code; change Placers ID to Career Transition Service ID (the acronym CTS will appear on the actual form); change Occupational Information Net (ONET) code to TAR (training achievement record) code; add TPA (training program area) to align with the CTT program changes; and add a Job Training Match (JTM) verification entry for (ONET) Standard Occupational Classification (SOC) codes 41-2022.00 and 43-5081.01 to add greater clarification.

4. Add information on employer benefits: 1. Does the job offer benefits? Add verification of employment or education; a drop down selection menu will be added to the form to capture pay stub, 1099, or transcript.

5. Delete section heading: Non-Placer A. Was Student Self Placed?

6. Add section heading: Placement Upgrade? Y or N to capture improvements to initial placements and to avoid the appearance of double placements.

A copy of the proposed information collection request (ICR) can be obtained by contacting the office listed below in the addressee section of this notice.

DATES: Written comments must be submitted to the office listed in the addressee's section below on or before October 19, 2010.

ADDRESSEE: Submit written comments to Rachel Floyd-Nelson, Room N4456, Office of Job Corps, 200 Constitution Avenue NW., Washington, DC 20210. Telephone number: 202-693-3120 (this is not a toll-free number). Fax: 202-693-2767. E-mail: floyd-nelson.rachel@dol.gov.

SUPPLEMENTARY INFORMATION: I. Background: Job Corps is an intensive, residential training program for at-risk youth age 16 through 24 to address multiple barriers to employment faced by youth throughout the United States. Job Corps is authorized by Title I, Subtitle C, of the Workforce Investment Act (WIA) of 1998. The program is principally carried out through a nationwide network of 123 Job Corps centers. The centers are located at facilities either owned or leased by the Federal Government. The Department has a direct role in the operation of Job Corps, and does not serve as a pass-through agency for this program. It is the Department's responsibility to establish Job Corps centers and to select operators for them. Of the 123 current centers, 28 are operated by the Department of Agriculture through an interagency agreement. These centers are located on Federal lands. The remaining 95 centers are managed and operated by large and small corporations and nonprofit organizations selected by the Department in accordance with the Federal Acquisition Regulations, and in most cases through a competitive procurement process. Many of the current contractors manage and operate more than one center.

II. Review Focus:

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: Extension with revisions.

Title: Job Corps Placement and Assistance Record.

OMB Number: Control No. 1205-0035.

Affected Public: Job Corps records staff and career transition specialists.

Form(s): ETA 678.

Total Annual Respondents: 42,700.

Annual Frequency: When placements occur.

Total Annual Responses: 42,700.

Average Time per Response: 7.43 minutes.

Estimated Total Annual Burden Hours: 5,288.

Total Annual Burden Cost for Respondents: $43,361.

Comments submitted in response to this comment request will be summarized and/or included in the request for Office of Management and Budget approval of the information collection request; they will also become a matter of public record.

Dated: August 17, 2010.
Jane Oates,
Assistant Secretary, Employment and Training Administration.

[FR Doc. 2010-20715 Filed 8-19-10; 8:45 am]

BILLING CODE 4510-FT-P